FEDERAL FINANCIAL INSTITUTIONS EXAMINATION COUNCIL

[Docket No. AS12-17]

Appraisal Subcommittee Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: FDIC—550 17th Street NW., Room MB-5085, Washington, DC 20429.

Date: September 27, 2012.

Time: 1:30 p.m.

Status: Open.

Matters To Be Considered

Summary Agenda

August 8, 2012 minutes—Open Session.

(No substantive discussion of the above items is anticipated. These matters will be resolved with a single vote unless a member of the ASC requests that an item be moved to the discussion agenda.)

Discussion Agenda

Appraisal Foundation FY13 Grant Proposal

ASC FY13 Operating Plan

ASC FY13 Proposed Budget

Appraisal Foundation June 2012 Grant Reimbursement Request

ASC Policy for Monitoring Appraisal Requirements

How To Attend and Observe an ASC meeting

Email your name, organization and contact information to meetings@asc.gov.

You may also send a written request via U.S. Mail, fax or commercial carrier to the Executive Director of the ASC, 1401 H Street NW., Ste 760, Washington, DC 20005. The fax number is 202-289-4101. Your request must be received no later than 4:30 p.m., ET, on the Monday prior to the meeting. Attendees must have a valid government-issued photo ID and must agree to submit to reasonable security measures. The meeting space is intended to accommodate public attendees. However, if the space will not accommodate all requests, the ASC may refuse attendance on that reasonable basis. The use of any video or audio tape recording device, photographing device, or any other electronic or mechanical device designed for similar purposes is prohibited at ASC meetings.

Dated: September 14, 2012.
James R. Park,
Executive Director.

[FR Doc. 2012-23056 Filed 9-18-12; 8:45 am]

BILLING CODE P